AGENCY FOR INTERNATIONAL DEVELOPMENT

Notice of Public Information Collection Requirements Submitted to OMB for Review

SUMMARY: U.S. Agency for International Development (USAID) has submitted the following information collection to OMB for review and clearance under the Paperwork Reduction Act of 1995, Public Law 104-13. Comments regarding this information collection are best assured of having their full effect if received within 30 days of this notification. Comments should be addressed to: Desk Officer for USAID, Office of Information and Regulatory Affairs, Office of Management and Budget (OMB), Washington, DC 20503. Copies of the information collection and supporting documents may be obtained by calling (202) 712-1365.

SUPPLEMENTARY INFORMATION: OMB Number: OMB 0412-0543.

Form Number: AID 1558-1 and AID 1558-1A.

Title: Financial Status Report (Form 268 and 269 Worksheet).

Type of Submission: Renewal of Information Collection.

Purpose: The purpose of this information collection is to assure that ASHA grant recipients are accountable for expenditures incurred under the grant agreement for only those items authorized by the agreement. The information is used by ASHA to monitor the expenditures under each authorized line item and calculate the monetary gain or loss realized during the life of the grant.

Annual Reporting Burden:

Respondents: 70.

Total annual response: 400.

Total annual hours requested: 50,296 hours.

Dated: July 13, 2001.
Joanne Paskar,
Chief, Information and Records Division, Office of Administrative Services Bureau for Management.

[FR Doc. 01-18789 Filed 7-26-01; 8:45 am]

BILLING CODE 6116-01-M